FEDERAL COMMUNICATIONS COMMISSION

[OMB 3060-1228; FR ID 53878]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before November 18, 2021.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1228.

Title: Connect America Fund—High Cost Portal Filing.

Form Number: N/A.

Type of Review: Revision of a currently approved collection.

Respondents: Business or other for-profit, not-for-profit institutions.

Number of Respondents and Responses: 2,024 unique respondents; 4,644 responses.

Estimated Time per Response: 8 hours-60 hours.

Frequency of Response: On occasion, quarterly reporting requirements, annual reporting requirements, and recordkeeping requirement.

Obligation to Respond: Required to obtain or retain benefits. Statutory authority for this information collection is contained in 47 U.S.C. 151-154, 155, 201-206, 214, 218-220, 251, 252, 254, 256, 303(r), 332, 403, 405, 410, and 1302.

Total Annual Burden: 86,727 hours.

Total Annual Cost: No Cost.

Privacy Act Impact Assessment: No impact(s).

Nature and Extent of Confidentiality: Except for the middle-mile maps for Alaska Plan carriers, and the coverage maps and information for Uniendo a Puerto Rico Fund and Connect USVI Fund Stage 2 mobile support recipients, the Commission is not requesting respondents to submit confidential information to the Commission. We note that the Universal Service Administrative Company (USAC) must preserve the confidentiality of all data obtained from respondents and contributors to the universal service support program mechanism; must not use the data except for purposes of administering the universal service support program; and must not disclose data in company-specific form unless directed to do so by the Commission. Also, respondents may request materials or information submitted to the Commission or to the Administrator believed confidential to be withheld from public inspection under 47 CFR 0.459 of the FCC's rules

Needs and Uses: Through several orders, the Commission has recently changed or modified reporting obligations for high-cost support. Pursuant to the following orders, this collection includes location reporting and related certification requirements of high-cost support recipients: Connect America Fund et al., Report and Order, Order and Order on Reconsideration, and Further Notice of Proposed Rulemaking, 31 FCC Rcd 3087 (2016) (2016 Rate-of-Return Order); Connect America Fund et al., Report and Order and Further Notice of Proposed Rulemaking, 31 FCC Rcd 5949 (2016) (Phase II Auction Order); Connect America Fund et al., Order, 31 FCC Rcd 12086 (2016) (ACS Phase II Order); Connect America Fund et al., Report and Order and Notice of Proposed Rulemaking, 29 FCC Rcd 876 (2014) (Rural Broadband Experiments Order); Connect America Fund et al., Report and Order, 29 FCC Rcd 15644 (2014) (Price Cap Order); Technology Transitions et al., Order et al., 29 FCC Rcd 1433 (2014) (Tech Transitions Order); Connect America Fund et al., Report and Order and Further Notice of Proposed Rulemaking, 31 FCC Rcd 10139 (2016) (Alaska Plan Order); Connect America Fund et al., Order, 32 FCC Rcd 968 (2017) (New York Auction Order); Connect America Fund et al., Report and Order, Further Notice of Proposed Rulemaking, and Order on Reconsideration, 33 FCC Rcd 11-893 (2018) (2018 Rate-of-Return Order); Uniendo a Puerto Rico and Connect USVI Fund et al., Report and Order and Order on Reconsideration, 34 FCC Rcd 9109 (2019) (PR-USVI Stage 2 Order); Rural Digital Opportunity Fund et al., Report and Order, 35 FCC Rcd 686 (2020) (2020 Rural Digital Opportunity Fund Order).

This information collection addresses the requirement that certain carriers with high-cost reporting obligations must file information about the locations to which they have deployed broadband service meeting applicable public interest requirements (location information). A web-based portal, the High-Cost Universal Broadband Portal (HUBB or portal), is used to accept this information. The Commission and USAC will use this information to monitor the deployment progress of reporting carriers and to verify the reporting carriers' claims of service at the reported locations. Such activities help the Commission ensure that support is being used as intended. In addition, because data filed in the HUBB is publicly accessible, the reporting helps ensure public accountability and transparency.

In the 2019 PR-USVI Stage 2 Order, the Commission created a competitive process to determine support recipients for the Commonwealth of Puerto Rico and the U.S. Virgin Islands. As a result, carriers receiving support in these areas are subject to specific public interest obligations related to speed, usage, latency, and price as well as certain deployment milestones. Specifically, the Commission imposed defined deployment obligations and associated HUBB reporting requirements (annual location reporting and build-out certifications) for all Uniendo a Puerto Rico Fund and Connect USVI Fund Stage 2 fixed support recipients as well as annual reporting and certification requirements for all Uniendo a Puerto Rico Fund and Connect USVI Fund Stage 2 mobile support recipients.

Uniendo a Puerto Rico Fund and Connect USVI Fund Stage 2 mobile support recipients will also file network coverage and other data as required by the Commission's orders. The Commission and USAC will use this information to monitor the deployment progress of mobile carriers and to verify that carriers meet the public interest obligations for 4G LTE and 5G mobile broadband and voice services in the Commonwealth of Puerto Rico and the U.S. Virgin Islands. Instead of filing in the HUBB portal, mobile support recipients will submit their reports electronically as part of a web form accessed via the Commission's Form 477 portal (477 Portal) and the Electronic Comment Filing System (ECFS). This collection mechanism is being used to reduce the technological burden on the public and the Commission, as carriers and the public are familiar with both of these systems. The Commission's Wireline Competition Bureau (WCB) will specify the filing process by which Stage 2 mobile support recipients must file their reports in the 477 Portal prior to the filing deadlines.

In the 2020 Rural Digital Opportunity Fund Order, the Commission adopted a support mechanism to provide funding through a competitive auction to connect rural homes and businesses to high-speed broadband networks. The Commission established specific public interest obligations and deployment milestones for all carriers receiving this support. Specifically, the Commission imposed defined deployment obligations and associated HUBB reporting requirements (annual location reporting and build-out certifications) for all support recipients. We therefore propose to revise this information collection. Finally, we propose to increase the burdens associated with existing and new reporting requirements to account for additional carriers that will be subject to these requirements.

Federal Communications Commission.
Marlene Dortch,
Secretary, Office of the Secretary.

[FR Doc. 2021-22771 Filed 10-18-21; 8:45 am]

BILLING CODE 6712-01-P